DEPARTMENT OF THE INTERIOR

Fish and Wildlife Service

Aquatic Nuisance Species Task Force Ballast Water and Shipping Committee

AGENCY: Fish and Wildlife Service, Interior.

ACTION: Notice of meeting.

SUMMARY: This notice announces a meeting of the Aquatic Nuisance Species Task Force Ballast Water and Shipping Committee. The meeting topics are identified in the supplementary information.

DATES: The Ballast Water and Shipping Committee will meet from 9 a.m. to 3 p.m., Tuesday, September 11, 2001.

ADDRESSES: The Ballast Water and Shipping Committee meeting will be held at the National Oceanic and Atmospheric Administration complex, SSMC-II, Room 2358, 1325 East West Highway, Silver Spring, Maryland 20910.

FOR FURTHER INFORMATION CONTACT: LCDR Mary Pat McKeown, U.S. Coast Guard, Ballast Water and Shipping Committee Chairperson, at 202-267-0500 or by e-mail at mmckeown@comdt.uscg.mil; or Sharon Gross, Executive Secretary, Aquatic Nuisance Species Task Force at 703-358-2308 or by e-mail at sharon_gross@fws.gov.

SUPPLEMENTARY INFORMATION: Pursuant to section 10(a)(2) of the Federal Advisory Committee Act (5 U.S.C. App. I), this notice announces a meeting of the Aquatic Nuisance Species Task Force Ballast Water and Shipping Committee. The Task Force was established by the Nonindigenous Aquatic Nuisance Prevention and Control Act of 1990 (16 U.S.C. 4701-4741). The Ballast Water and Shipping Committee will meet to finalize the document entitled “Recommended Ballast Water Research Priorities of the Ballast Water and Shipping Committee of the Aquatic Nuisance Species Task Force.”

Minutes of the meeting will be maintained by the Executive Secretary, Aquatic Nuisance Species Task Force, Suite 810, 4401 North Fairfax Drive, Arlington, Virginia 22203-1622, and the Chairperson of the Ballast Water and Shipping Committee at the Environmental Standards Division, Office of Operations and Environmental Standards, U.S. Coast Guard (G-MSO-4), 2100 Second Street, SW., Room 1309, Washington, DC 20593-0001. Minutes for the meeting will be available at these locations for public inspection during regular business hours, Monday through Friday.

Dated: August 20, 2001.
William E. Knapp,
Co-Chair, Aquatic Nuisance Species Task Force, Acting Assistant Director—Fisheries and Habitat Conservation.

[FR Doc. 01-21685 Filed 8-27-01; 8:45 am]

BILLING CODE 4310-55-M